DEPARTMENT OF ENERGY

Federal Energy Regulatory Commission

[Docket No. CP03-80-001]

Eastern Shore Natural Gas Company; Notice of Site Visit

March 8, 2005.

On March 21 and 22, 2005, the Office of Energy Projects (OEP) staff will conduct a pre-certification site visit of Eastern Shore Natural Gas Company's (ESNG) planned expansion project. The project consists of 4 segments of loop.¹ Segment 1 consists of 1.4 miles of 16-inch-diameter loop in Chester County, Pennsylvania. Segment 2 consists of 3.2 miles of 16-inch-diameter loop in New Castle County, Delaware. Segment 3 consists of 10.3 miles of 6-inch-diameter loop and Segment 4 consists of 6.0 miles of 10-inch-diameter loop, both in Sussex County, Delaware. These loop segments were described in more detail in our Notice of Intent To Prepare an Environmental Assessment for the Proposed Eastern Shore Natural Gas Company's Amended 2003-2005 Expansion Project.

¹ A loop is a segment of pipeline installed adjacent to an existing pipeline and which connects to the existing pipeline at both ends of the loop. The loop allows more gas to be moved through the system.

We will view the proposed route and variations that are being considered for the planned pipeline. Examination will be by automobile and on foot. Representatives of ESNG will be accompanying the OEP staff.

All interested parties may attend. Those planning to attend must provide their own transportation. ESNG will be holding a short Open House at the meeting sites in Delaware prior to the site visit for those landowners that may have questions about the project. Those interested in attending or speaking to an ESNG or FERC representative should meet at:

Segment 1

Monday—March 21, 2005, 9 a.m. (e.s.t.), Lenover Road in Parkesburg, PA (across the street from 552 Lenover Road at the pipeline crossings).

Segment 2

Monday—March 21, 2005, 1 p.m. (e.s.t.), Newark Free Library Meeting Room, 750 Library Avenue, Newark, DE 19711; (302) 731-7550.

Segment 3

Tuesday—March 22, 2005, 9 a.m. (e.s.t.), Milford Public Library Meeting Room, located at 11 Southeast Front Street, Milford, DE 11963; (302) 422-8996.

Segment 4

Tuesday—March 22, 2005, 1 p.m. (e.s.t.), Delmar Public Library Meeting Room, 101 N. Bi-State Blvd, Delmar, DE 19940; (302) 846-9894.

For additional information, please contact the Commission's Office of External Affairs at 1-866-208-FERC (3372).

Linda Mitry,
Deputy Secretary.

[FR Doc. E5-1093 Filed 3-14-05; 8:45 am]

BILLING CODE 6717-01-P